DEPARTMENT OF AGRICULTURE

Forest Service

Malheur National Forest, Blue Mountain Ranger District and Umatilla National Forest, North Fork John Day Ranger District; Oregon; Ragged Ruby Project

AGENCY: Forest Service, USDA.

ACTION: Notice to extend the public scoping period for the Ragged Ruby Project for two proposed forest plan amendments.

SUMMARY: The Malheur National Forest is issuing this notice to advise the public of a 30-day extension to the public scoping period on the project-specific forest plan amendments proposed as part of the Ragged Ruby Project. This extension is for two amendments for connectivity and harvest in late and old structure stands, which includes identification of the applicable planning rule provisions that are likely to be directly related to the amendment.

DATES: Comments concerning the scope of the analysis must be received by January 8, 2018.

ADDRESSES: Comments may be submitted by any one of the following methods:

• Electronic Submissions: Comments can be filed electronically at: comments-pacificnorthwest-malheur-bluemountain@fs.fed.us. Electronic comments must be submitted as part of the email message or as an attachment in plain text (.txt), Microsoft Word (.doc), rich text format (.rtf), or portable document format (.pdf). Emails submitted to addresses other than the one listed above, or in formats other than those listed or containing viruses, will be rejected.

• Mail: Written, specific comments must be submitted to Dave Halemeier, District Ranger, Blue Mountain Ranger District, c/o Sasha Fertig, P.O. Box 909, John Day, OR 97845, or FAX at 541-575-3319.

Instructions: Comments sent by any other method or to any other address or individual, or received after the end of the comment period may not be considered by the Malheur National Forest. All comments received are part of the public record and will generally be posted for public viewing without change. All personal identifying information (e.g., name, address, etc.), confidential business information, or otherwise sensitive information submitted voluntarily by the sender will be publicly accessible.

This opportunity for comment applies only to the project-specific forest plan amendments described below in the Supplementary Information section. Previously submitted comments will be considered and should not be resubmitted. Previous commenters will have eligibility to object under 26 CFR 218.5.

FOR FURTHER INFORMATION CONTACT: Sasha Fertig, NEPA Planner, Blue Mountain Ranger District, Malheur National Forest, 541-575-3061 or sashafertig@fs.fed.us.

Individuals who use telecommunication devices for the deaf (TDD) may call the Federal Information Relay Service (FIRS) at 1-800-877-8339 between 8 a.m. and 8 p.m., Eastern Time, Monday through Friday. The full Ragged Ruby Project Scoping Package and Addendum is available on the Malheur National Forest Web site: https://www.fs.usda.gov/project/?project=49392.

SUPPLEMENTARY INFORMATION: The original Ragged Ruby Project Notice of Intent (NOI) was published in the Federal Register on March 24, 2017 (82 FR 15020). The 2012 Planning Rule, as amended, requires identification in the initial notice of the amendment of the substantive provisions that are likely to be directly related to the amendment (36 CFR 219.8 through 219.11). During project development following the original NOI, the project's interdisciplinary team identified the need for a project-specific forest plan amendment to the Malheur National Forest Land and Resource Management Plan (forest plan), as amended by the Decision Notice for the Revised Continuation of Interim Management Direction Establishing Riparian, Ecosystem and Wildlife Standards for Timber Sales (Eastside Screens).

The original NOI did not identify the need for this amendment to the Eastside Screens, Standard 6(d)(3)(a), or the applicable substantive provisions. The original NOI also did not identify the applicable substantive provisions for the project-specific forest plan amendment to the Eastside Screens, Standard 6(d) to allow harvest in late and old structure stands.

Standard 6(d)(3)(a) provides direction to maintain or enhance the current level of connectivity between late and old structure (LOS) and old growth Management Area 13 (MA13) stands by maintaining connections between them as described in the Eastside Screens. This amendment is being proposed to allow upland restoration activities that would reduce stand density, increase tree spatial heterogeneity, protect old trees, and shift species composition to a higher proportion of early seral species (e.g., western white pine, western larch, and ponderosa pine), limiting the ability to connect all LOS and MA13 stands as directed in the Eastside Screens. Wildlife corridors would be provided between all MA13 stands, some LOS stands, and to adjacent watersheds; however, not all LOS stands would be connected due to LOS stand sizes and position on the landscape.

The updated information described in this notice is provided in the Ragged Ruby Project Scoping Package Addendum, now available on the Forest's Web site: https://www.fs.usda.gov/project/?project=49392.

Dated: Novmeber 16, 2017.
Chris French,
Associate Deputy Chief, National Forest System.

[FR Doc. 2017-26377 Filed 12-6-17; 8:45 am]

BILLING CODE 3411-15-P